DEPARTMENT OF TRANSPORTATION

Federal Aviation Administration

14 CFR Part 71

[Docket No. FAA-2012-0129; Airspace Docket No. 12-AWA-1]

RIN 2120-AA66

Revocation of Multiple Domestic, Alaskan, and Hawaiian Compulsory Reporting Points

AGENCY: Federal Aviation Administration (FAA), DOT.

ACTION: Final rule.

SUMMARY: This action removes twenty-two Domestic, Alaskan, and Hawaiian compulsory reporting points previously removed from service and taken out of the FAA aeronautical database. The FAA is removing these Part 71 outdated compulsory reporting points since they are no longer valid, to be consistent with the FAA's aeronautical database. This will avoid confusion and eliminate safety issues with existing fixes using the same fix name elsewhere within the National Airspace System (NAS).

DATES: Effective date 0901 UTC, May 31, 2012. The Director of the Federal Register approves this incorporation by reference action under 1 CFR part 51, subject to the annual revision of FAA Order 7400.9 and publication of conforming amendments.

FOR FURTHER INFORMATION CONTACT: Colby Abbott, Airspace, Regulations and ATC Procedures Group, Office of Airspace Services, Federal Aviation Administration, 800 Independence Avenue SW., Washington, DC 20591; telephone: (202) 267-8783.

SUPPLEMENTARY INFORMATION:

History

After a recent review of aeronautical data, the National Flight Data Center (NFDC) identified twenty-two compulsory reporting points listed in FAA Order (FAAO) 7400.9, Airspace Designations and Reporting Points that were no longer valid and not contained in the FAA's aeronautical database as reporting points. The reporting points included fourteen Domestic reporting points designated at all altitudes, two Alaskan low altitude and five Alaskan high altitude reporting points, and one Hawaiian reporting point designated at all altitudes. No regulatory actions were accomplished prior to these compulsory reporting points being removed from the FAA aeronautical database and seven of the reporting point names have since been reused for navigation fixes elsewhere within the NAS. To overcome confusion and flight safety issues associated with publishing outdated and conflicting compulsory reporting point information, the FAA is removing the twenty-two reporting points, as identified by NFDC, from Part 71, and removing them from FAAO 7400.9. Accordingly, since this is an administrative change and does not affect any current compulsory reporting points, notice and public procedures under Title 5 U.S.C. 553(b) are unnecessary.

The Rule

The FAA amends Title 14 Code of Federal Regulations (14 CFR) part 71 by removing fourteen Domestic reporting points designated at all altitudes, two Alaskan low altitude and five Alaskan high altitude reporting points, and one Hawaiian reporting point. Specifically, the FAA removes the ABACO, ALLBA, BACUS, BRIMS, CARPS, CATFI, CRABI, EARNS, FLASH, FLORI, GATES, OHIOS, SMELT, and SQUID Domestic reporting points; the NESSY and SAVRY (both low altitude) and the AUGIN, ENCOR, KILLA, NESSY, and SAVRY (all high altitude) Alaskan reporting points; and the SHILA Hawaiian reporting point, from part 71.

Domestic Reporting Points designated at all altitudes are listed in paragraph 7003 of FAA Order 7400.9V dated August 9, 2011, and effective September 15, 2011, which is incorporated by reference in 14 CFR 71.1. Alaskan Low Altitude Reporting Points are listed in paragraph 7004 of FAA Order 7400.9V dated August 9, 2011, and effective September 15, 2011, which is incorporated by reference in 14 CFR 71.1. Alaskan High Altitude Reporting Points are listed in paragraph 7005 of FAA Order 7400.9V dated August 9, 2011, and effective September 15, 2011, which is incorporated by reference in 14 CFR 71.1. Hawaiian Reporting Points are listed in paragraph 7006 of FAA Order 7400.9V dated August 9, 2011, and effective September 15, 2011, which is incorporated by reference in 14 CFR 71.1. The reporting points listed in this document will be revised subsequently in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it removes Domestic, Alaskan, and Hawaiian Reporting Points contained in the NAS.

Environmental Review

The FAA has determined that this action qualifies for categorical exclusion under the National Environmental Policy Act in accordance with 311a, FAA Order 1050.1E, “Environmental Impacts: Policies and Procedures.” This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9V, Airspace Designations and Reporting Points, signed August 9, 2011, and effective September 15, 2011, is amended as follows:

Paragraph 7003 Other domestic reporting points.

ABACO: [Removed]

* * * * *

ALLBA: [Removed]

BACUS: [Removed]

* * * * *

BRIMS: [Removed]

CARPS: [Removed]

CATFI: [Removed]

* * * * *

CRABI: [Removed]

* * * * *

EARNS: [Removed]

FLASH: [Removed]

FLORI: [Removed]

GATES: [Removed]

* * * * *

OHIOS: [Removed]

* * * * *

SMELT: [Removed]

SQUID: [Removed]

* * * * *

Paragraph 7004 Alaskan low altitude reporting points.

* * * * *

NESSY: [Removed]

* * * * *

SAVRY: [Removed]

* * * * *

Paragraph 7005 Alaskan high altitude reporting points.

* * * * *

AUGIN: [Removed]

* * * * *

ENCOR: [Removed]

* * * * *

KILLA: [Removed]

* * * * *

NESSY: [Removed]

* * * * *

SAVRY: [Removed]

* * * * *

Paragraph 7006 Hawaiian reporting points.

* * * * *

SHILA: [Removed]

* * * * *

Issued in Washington, DC, March 12, 2012.
Gary A. Norek,
Acting Manager, Airspace, Regulations and ATC Procedures Group.

[FR Doc. 2012-6744 Filed 3-20-12; 8:45 am]

BILLING CODE 4910-13-P